DEPARTMENT OF COMMERCE

National Oceanic and Atmospheric Administration

RIN 0648-XP72

Endangered Species; File No. 1596-02

AGENCY: National Marine Fisheries Service (NMFS), National Oceanic and Atmospheric Administration (NOAA), Commerce.

ACTION: Notice; issuance of permit modification.

SUMMARY: Notice is hereby given that National Marine Fisheries Service Southwest Fisheries Science Center has been issued a modification to scientific research Permit No. 1596-01.

ADDRESSES: The modification and related documents are available for review upon written request or by appointment in the following offices:

Permits, Conservation and Education Division, Office of Protected Resources, NMFS, 1315 East-West Highway, Room 13705, Silver Spring, MD 20910; phone (301)713-2289; fax (301)427-2521;

Southwest Region, NMFS, 501 West Ocean Blvd., Suite 4200, Long Beach, CA 90802-4213; phone (562)980-4001; fax (562)980-4018.

FOR FURTHER INFORMATION CONTACT: Patrick Opay (301)713-2289.

SUPPLEMENTARY INFORMATION: On May 13, 2009, notice was published in the Federal Register (74 FR 22517) that a modification of Permit No. 1596-01 had been requested by the above-named organization. The requested modification has been granted under the authority of the Endangered Species Act of 1973, as amended (ESA; 16 U.S.C. 1531 et seq.) and the regulations governing the taking, importing, and exporting of endangered and threatened species (50 CFR 222-226).

The permit modification authorizes researchers to annually fat biopsy and ultrasound up to 38 leatherback sea turtles as part of a health and nutritional assessment of this species. It also provides authority to close approach and attach VHR/TDR/sonic tag/GPS/video camera units by suction cup on up to 20 leatherback sea turtles annually, and to later capture the same animals to remove the unit and then sample, tag, and attach another VHR/TDR/sonic tag/GPS/video camera unit to the animals before release. Additionally, the permit modification authorizes researchers to annually attach a VHR/TDR/sonic tag/GPS unit and tissue sample 20 leatherback sea turtles using a biopsy pole. The permit currently authorizes researchers to attach the unit or tissue sample 20 animals, not both. The number of leatherback sea turtles captured does not increase under the modification, but the mix of activities conducted on each animal does. The research may continue to occur in waters off the coast of the western United States through February 1, 2012.

Issuance of this modification, as required by the ESA was based on a finding that such permit (1) was applied for in good faith, (2) will not operate to the disadvantage of such endangered or threatened species, and (3) is consistent with the purposes and policies set forth in section 2 of the ESA.

Dated: July 29, 2009.
P. Michael Payne,
Chief, Permits, Conservation and Education Division, Office of Protected Resources, National Marine Fisheries Service.

[FR Doc. E9-18585 Filed 8-3-09; 8:45 am]

BILLING CODE 3510-22-S